DEPARTMENT OF THE TREASURY

Internal Revenue Service

26 CFR Part 1

[REG-209500-86 and REG-164464-02]

RIN-1545-BA10, 1545-BB79

Reductions of Accruals and Allocations Because of the Attainment of Any Age; Application of Nondiscrimination Cross-Testing Rules to Cash Balance Plans; Hearing

AGENCY: Internal Revenue Service (IRS), Treasury.

ACTION: Change in date and location for public hearing on proposed rulemaking.

SUMMARY: This document provides notice of a change of date and location for the public hearing on proposed regulations under sections 401 and 411 regarding the requirements that accruals or allocations under certain retirement plans not cease or be reduced because of the attainment of any age.

DATES: The public hearing is being held on Wednesday, April 9, 2003, and Thursday, April 10, 2003 at 10 a.m. Outlines of oral comments were due by Thursday, March 13, 2003.

ADDRESSES: The public hearing is being held in the Andrew W. Mellon Auditorium, 1300 Constitution Avenue, NW., Washington, DC.

FOR FURTHER INFORMATION: Concerning the regulations, Linda Marshall (202) 622-6090; concerning submissions, Sonya M. Cruse (202) 622-7180 (not a toll-free number).

SUPPLEMENTARY INFORMATION:

Background

A notice of proposed rulemaking and notice of public hearing, appearing in the Federal Register on Wednesday, December 11, 2003 (67 FR 76123), announced that a public hearing on proposed regulations relating to the requirements that accruals or allocations under certain retirement plans not cease or be reduced because of the attainment of any age would be held on Thursday, April 10, 2003, in room 4718, Internal Revenue Building 1111 Constitution Avenue, NW., Washington, DC. A subsequent notice published in the Federal Register on January 17, 2003, (68 FR 2466), changed the date and location of the public hearing to April 9, 2003, in the Auditorium, Internal Revenue Building, 1111 Constitution Avenue, NW., Washington, DC. Because of the number of individuals requesting to speak at the hearing, the hearing will be held on both Wednesday, April 9, 2003 and on Thursday, April 10, 2003. On both dates the hearing will begin at 10 a.m., and registration for the hearing will begin at 9 a.m. On both dates the hearing will be held in the Andrew W. Mellon Auditorium, 1300 Constitution Avenue, NW., Washington, DC.

Cynthia E. Grigsby,
Chief, Regulations Unit, Associate Chief Counsel (Income Tax and Accounting).

[FR Doc. 03-8575 Filed 4-3-03; 3:54 pm]

BILLING CODE 4830-01-P